OFFICE OF PERSONNEL MANAGEMENT

Submission for Renewal: New Information Collection, Fingerprint Chart Standard Form 87 (SF 87)

AGENCY: U.S. Office of Personnel Management.

ACTION: 30-Day notice and request for comments.

SUMMARY: Federal Investigative Services (FIS), U.S. Office of Personnel Management (OPM) offers the general public and other federal agencies the opportunity to comment on a new information collection request (ICR), Office of Management and Budget (OMB) Control No. 3206-0150, for the Fingerprint Chart Standard Form 87 (SF 87). As required by the Paperwork Reduction Act of 1995, (Pub. L. 104-13, 44 U.S.C. chapter 35) as amended by the Clinger-Cohen Act (Pub. L. 104-106), OPM is soliciting comments for this collection. The Office of Management and Budget (OMB) is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until March 1, 2013. This process is conducted in accordance with 5 CFR 1320.1.

ADDRESSES: Interested persons are invited to submit written comments on the proposed information collection to the Office of Information and Regulatory Affairs, Office of Management and Budget, 725 17th Street NW., Washington, DC 20503, Attention: Desk Officer for the Office of Personnel Management or sent via electronic mail to oira_submission@opm.eop.gov or faxed to (202) 395-6974; and Federal Investigative Service, U.S Office of Personnel Management, 1900 E Street NW., Washington, DC 20415, Attention: Donna McLeod or sent via electronic mail to FISFormsComments@opm.gov.

FOR FURTHER INFORMATION CONTACT: A copy of this ICR, with applicable supporting documentation, may be obtained by contacting Federal Investigative Services, U.S. Office of Personnel Management, 1900 E Street NW., Washington, DC 20415, Attention: Donna McLeod or sent via electronic mail to FISFormsComments@opm.gov.

SUPPLEMENTARY INFORMATION: The SF 87 is a fingerprint card, which is utilized to conduct a national criminal history check, which is a component of a background investigation. The SF 87 is completed by applicants who are under consideration for Federal employment; by Federal employees, to determine whether they should be retained in such employment; by individuals being considered to perform work for the Federal Government under a Government contract or to continue such work; and by persons seeking long-term access to Federal facilities and systems. The SF 87 fingerprint chart is used in background investigations to help establish facts required to determine, for example, whether the subject of the investigation should be adjudicated to be eligible for logical and physical access to Government facilities and systems; suitable or fit for Federal employment; fit to perform work on behalf of the Federal Government under a Government contract; eligible to hold a position that is sensitive for national security reasons; or eligible for access to classified information. The SF 87 form is utilized only when a hardcopy fingerprint chart must be obtained, as opposed to the electronic collection of fingerprints. Modifications to the SF 87 include the addition of four blocks, Submitting Office Number (SON), Security Office Identifier (SOI), Intra-Government Payment, Collection Code (IPAC) and Miscellaneous Identification Number (MNU) and the removal of the printed ORI number, USOPMOOOZ-FIPC Boyer, PA. The addition of the SON, SOI, IPAC and MNU blocks support billing and processing enhancements. The printed ORI number is no longer necessary because SF 87 forms are converted to images and transmitted to the FBI electronically. The Public Burden Statement address is updated to state U.S. Office of Personnel Management, Federal Investigative Services, Attn: OMB Number 3206-0150, 1900 E Street NW., Washington, DC 20415.

Because OPM is eliminating the printed ORI number, a separate collection that does not have an ORI number, the SF 87A is redundant. Accordingly, OPM is eliminating the SF 87A form.

Due to the SF 87 form's small size and the fact that it may be maintained in multiple systems of records, it does not list all potentially applicable routine uses under the Privacy Act. Accordingly 5 U.S.C. 552a(e)(3)(C) requires that an agency issuing the SF 87 form must also give the subject a copy of the routine uses for the applicable system of records.

It is estimated that 210,533 SF 87 forms are provided to individuals annually. The SF 87 takes approximately 5 minutes to complete. The estimated annual burden is 17,544 hours.

The 2009 OMB Terms of Clearance required an accurate reflection of the number of people who incur a cost for submitting their fingerprints to federal agencies and the total cost per annum. Calculations derived from Federal agency survey data and OPM data estimated that, at a maximum, 52,633 forms are submitted to federal agencies annually by individuals, who may incur a financial burden to obtain fingerprints at local police departments, when security offices are unable to conduct the fingerprinting. The estimated individual financial burden is $17.00. The estimated maximum annual financial burden is $894,765.

The 60 day Federal Register Notice was published in the Federal Register on Tuesday, November 27, 2012 (Federal Register Notices/Vol. 77, Number 228, pages 70848-70849) as required by 5 CFR part 1320, affording the public an opportunity to comment on the form.

U.S. Office of Personnel Management.
John Berry,
Director.

[FR Doc. 2013-01995 Filed 1-29-13; 8:45 am]

BILLING CODE 6325-53-P